DEPARTMENT OF THE INTERIOR

National Park Service

Award of Category II Temporary Concession Contract for Belle Haven Marina, Alexandria, VA

AGENCY: National Park Service, Interior.

ACTION: Public notice of the Director's intent to award a 1-year Category II temporary concession contract at Belle Haven Marina in Alexandria, Virginia.

SUMMARY: Pursuant to 36 CFR 51.24, public notice is hereby given that the Director of the National Park Service intends to award a 1-year Category II temporary concession contract to Belle Haven Marina, Inc. in Alexandria, Virginia to avoid the interruption of visitor services. The current temporary contract between George Washington Memorial Parkway (GWMP) and Belle Haven Marina, Inc. expires December 31, 2004. The National Park Service has determined that a temporary contract is necessary in order to avoid interruption of visitor services and that all reasonable alternatives to the award of a temporary contract have been considered and found infeasible.

The term of the temporary contract will be for a period of one year. This temporary contract will provide the time for GWMP to obtain technical assistance to complete an Environmental Assessment (EA), and GWMP is planning to have the EA completed by the end of 2004. The EA will allow GWMP to make a determination of necessary and appropriate services with respect to the marina so a prospectus may be issued leading to the competitive selection of a concessioner for a new long-term concession contract for the marina.

DATES: The term of the temporary concession contract will be from January 1, 2005-December 31, 2005.

FOR FURTHER INFORMATION CONTACT: Anne Dayton (703) 289-2536.

Dated: August 3, 2004.
Audrey F. Calhoun,
Superintendent, George Washington Memorial Parkway.

[FR Doc. 04-22041 Filed 9-29-04; 8:45 am]

BILLING CODE 3301-02-P